DEPARTMENT OF HEALTH AND HUMAN SERVICES

National Institutes of Health

National Library of Medicine; Cancellation of Meeting

Notice is hereby given of the cancellation of the PubMed Central National Advisory Committee, November 4, 2002, 9:30 am to November 4, 2002, 4 pm, Library of Medicine, Board Room, Room 2E17, Bldg. 38, 8600 Rockville Pike, Bethesda, MD, 20892 which was published in the Federal Register on August 21,2002, 67 FR 54227.

The meeting is cancelled due to concern regarding quorum and availability of Committee members.

Dated: October 10, 2002.
LaVerne Y. Stringfield,
Director, Office of Federal Advisory Committee Policy.

[FR Doc. 02-26706 Filed 10-18-02; 8:45 am]

BILLING CODE 4140-01-M